DEPARTMENT OF THE INTERIOR

Fish and Wildlife Service

[FWS-R6-ES-2019-N156; FXES11140600000]

Endangered and Threatened Wildlife and Plants; Draft Recovery Plan for Mosquito Range Mustard

AGENCY: Fish and Wildlife Service, Interior.

ACTION: Notice of document availability for review and comment.

SUMMARY: We, the U.S. Fish and Wildlife Service, announce the availability of a draft recovery plan for Mosquito Range mustard, a plant species listed as threatened under the Endangered Species Act. We are requesting review and comment from the public on this draft plan.

DATES: We must receive any comments on the draft recovery plan on or before September 7, 2021.

ADDRESSES:

Document availability: Copies of the draft recovery plan are available at http://www.fws.gov/endangered/species/recovery-plans.html. Alternatively, you may request a copy by U.S. mail from the Western Colorado Ecological Services Field Office; 445 W Gunnison Ave. #240; Grand Junction, CO 81501; or by telephone at 970-243-2778. Persons who use a telecommunications device for the deaf may call the Federal Relay Service at 800-877-8339.

Submitting comments: If you wish to comment on the draft recovery plan, you may submit your comments in writing by email to Ann Timberman, at ann_timberman@fws.gov, or by U.S. mail to Ann Timberman, Western Slope Field Supervisor, at the above U.S. mail address.

FOR FURTHER INFORMATION CONTACT: Ann Timberman, Western Slope Field Supervisor, at the above U.S. mail address or by telephone at 970-243-2778. Persons who use a telecommunications device for the deaf may call the Federal Relay Service at 800-877-8339.

SUPPLEMENTARY INFORMATION: We, the U.S. Fish and Wildlife Service (Service), announce the availability of a draft recovery plan for Mosquito Range mustard (Eutrema penlandii), a plant listed as threatened under the Endangered Species Act, as amended (Act; 16 U.S.C. 1531 et seq.). The draft recovery plan includes objective, measurable criteria, and site-specific management actions as may be necessary to remove the species from the Federal List of Endangered and Threatened Plants. We are requesting review and comment from the public on this draft recovery plan.

Species Information

On August 12, 1993, we listed Mosquito Range mustard as a threatened plant (July 28, 1993; 58 FR 40539). We did not designate critical habitat due to risk associated with vandalism.

Mosquito Range mustard is a small, herbaceous plant in the mustard family (Brassicaceae), with white flowers and stout leaves. The species is found in high-elevation, alpine habitats of the Mosquito Mountain Range, in Lake, Park, and Summit Counties in central Colorado. The Mosquito Mountain Range is one of the driest and highest elevation mountain ranges in Colorado; therefore, temperatures are cold, winds are strong, and winters are long. The alpine areas where Mosquito Range mustard lives range in elevations from 3,600 to 4,050 meters (11,800 to 13,280 feet) and are generally moist, fed by melting snowbanks, and contain a diverse and abundant moss community. Mosquito Range mustard is found primarily on public lands managed by the U.S. Forest Service (approximately 51 percent) and the Bureau of Land Management (17 percent). Approximately 31 percent of the overall range is privately owned, with the remaining 1 percent owned by the State of Colorado. There is no overlap of occupied habitat with Tribal lands.

Currently, there are 26 known populations of the mosquito range mustard, distributed across approximately 100 hectares (246 acres) of habitat. Only 11 out of the 26 total known populations are characterized as relatively large, with high or moderate resiliency, each with 200 or more individuals. These 11 populations account for over 95 percent of the known number of individuals across the species' range and are considered to be the most resilient populations. The remaining 15 populations have fewer than 200 individuals and are considered to have low resiliency.

The primary threats to Mosquito Range mustard, both at the time of listing and currently, are small and geographically isolated populations, climate change, the inadequacy of regulatory mechanisms, disturbances related to recreation, such as hiking, biking, camping, and off-highway vehicle use, disturbances related to mining, and alteration of hydrology. Please refer to our biological report for additional discussion and full analyses of the life history, ecology, and biological status for Mosquito Range mustard (Service 2021, entire).

Recovery Planning Process

Restoring an endangered or threatened animal or plant to the point where it is again a secure, self-sustaining member of its ecosystem is a primary goal of the Service's endangered species program. Recovery means improving the status of a listed species to the point at which listing is no longer necessary according to the criteria specified under section 4(a)(1) of the Act. The Act requires recovery plans for listed species unless such a plan would not promote the conservation of a particular species. To help guide recovery efforts, we prepare recovery plans to promote the conservation of the species.

The purpose of a recovery plan is to provide a recommended framework for the recovery of a species so that protection of the Act is no longer necessary. Pursuant to section 4(f) of the Act, a recovery plan must, to the maximum extent possible, include:

(1) A description of site-specific management actions as may be necessary to achieve the plan's goal for the conservation and survival of the species;

(2) Objective, measurable criteria which, when met, would support a determination under section 4(a)(1) of the Act that the species should be removed from the List of Endangered and Threatened Species; and

(3) Estimates of time and costs required to carry out those measures needed to achieve the plan's goal and to achieve intermediate steps toward that goal.

We used our new recovery planning and implementation (RPI) process to develop the draft recovery plan for Mosquito Range mustard. The RPI process helps reduce the time needed to develop and implement recovery plans, increases the relevancy of the recovery plan over longer timeframes, and adds flexibility so that the recovery plan can be more easily adjusted to new information and circumstances. Under our RPI process, a recovery plan will include the three statutorily required elements for recovery plans—objective and measurable criteria, site-specific management actions, and estimates of time and cost—along with a concise introduction and our strategy for how we plan to achieve species recovery. The RPI recovery plan is supported by a separate biological report for Mosquito Range mustard (Service 2021, entire). The biological report is an in-depth, but not exhaustive, review of the species' biology and threats, an evaluation of its biological status, and an assessment of the resources and conditions needed to maintain long-term viability. The biological report provides the scientific background and threats assessment for Mosquito Range mustard, which are key to the development of the recovery plan. A third, separate working document, called the recovery implementation strategy (RIS), steps down the more general descriptions of actions in the recovery plan to detail the specifics needed to implement the recovery plan, which improves the flexibility of the recovery plan. The RIS will be adaptable, with new information on actions incorporated, as needed, without requiring a concurrent revision to the recovery plan, unless changes to the three statutory elements are required.

Draft Recovery Plan

Below, we summarize components from our draft recovery plan. Please reference the draft recovery plan for full details.

The draft recovery plan describes the recovery goal for the Mosquito Range mustard as its long-term viability in the wild. For recovery, the species needs at least 11 (redundant) persistent (resilient) populations across the species' range, where population trends are stable or increasing and ecological and genetic diversity are maintained (representation). This would be achieved by implementing recovery actions, such as protecting, conserving, and monitoring known populations, surveying for additional populations, and coordinating with stakeholders.

The draft recovery plan includes recovery criteria for delisting. The delisting criteria include:

(1) Maintaining population trends for the Mosquito Range mustard that are stable or increasing, according to objective measures that are described in the draft recovery plan; and

(2) Maintaining existing regulatory mechanisms or other conservation plans that currently provide protections for Mosquito Range mustard and including protections in any new or amended land management plans on Federal lands.

Peer Review

In accordance with our July 1, 1994, peer review policy (59 FR 34270; July 1, 1994); our August 22, 2016, Director's Memo on the Peer Review Process; and the Office of Management and Budget's December 16, 2004, Final Information Quality Bulletin for Peer Review (revised June 2012), we will seek the expert opinion of at least three appropriate and independent specialists regarding scientific data and interpretations contained in the species biological report and the draft recovery plan. We will send copies of both documents to the peer reviewers immediately following publication of this notice in the Federal Register. We will ensure that the opinions of peer reviewers are objective and unbiased by following the guidelines set forth in the Director's Memo, which updates and clarifies Service policy on peer review (U.S. Fish and Wildlife Service 2016). The purpose of such review is to ensure that our decisions are based on scientifically sound data, assumptions, and analysis. Accordingly, our final species biological report and recovery plan may differ from the draft documents. We will post the results of this structured peer review process on our website at https://www.fws.gov/mountain-prairie/science/peerReview.php. We also submitted our biological report to our Federal and State partners for their scientific review. The biological report is the scientific foundation for the draft recovery plan.

Request for Public Comments

All comments we receive by the date specified (see DATES) will be considered prior to approval of the recovery plan. Written comments and materials regarding the recovery plan should be sent via one of the means in the ADDRESSES section.

We will consider all information we receive during the public comment period, and particularly look for comments that provide scientific rationale or factual background. The Service and other Federal agencies and partners will take these comments into consideration in the course of implementing an approved final recovery plan. We are specifically seeking comments and suggestions on the following questions:

• Understanding that the time and cost presented in the draft recovery plan will be fine-tuned when localized recovery implementation strategies are developed, do you think that the estimated time and cost to recovery are realistic? Is the estimate reflective of the time and cost of actions that may have already been implemented by Federal, State, county, or other agencies? Please provide suggestions or methods for determining a more accurate estimation.

• Do the draft recovery criteria provide clear direction to partners on what is needed to recover Mosquito Range mustard? How could they be improved for clarity?

• Are the draft recovery criteria both objective and measurable given the information available for Mosquito Range mustard now and into the future? Please provide suggestions.

• Understanding that specific, detailed, and area-specific recovery actions will be developed in the RIS, do you think that the draft recovery actions presented in the draft recovery plan generally cover the types of actions necessary to meet the recovery criteria? If not, what general actions are missing? Are any of the draft recovery actions unnecessary for achieving recovery? Have we prioritized the actions appropriately?

Public Availability of Comments

We will summarize and respond to the issues raised by the public in an appendix to the approved final recovery plan. Before including your address, phone number, email address, or other personal identifying information in your comment, you should be aware that your entire comment—including your personal identifying information—may be made publicly available at any time. You may request at the top of your comment that we withhold this information from public review; however, we cannot guarantee that we will be able to do so.

Authority

The authority for this action is section 4(f) of the Endangered Species Act, 16 U.S.C. 1533(f).

Matthew Hogan,
Deputy Regional Director, Lakewood, Colorado.

[FR Doc. 2021-14464 Filed 7-6-21; 8:45 am]

BILLING CODE 4333-15-P